DEPARTMENT OF ENERGY

Federal Energy Regulatory Commission

[Docket No. EL14-37-000]

PJM Interconnection, L.L.C.; Notice of Institution of Section 206 Proceeding and Refund Effective Date

On August 29, 2014, the Commission issued an order in Docket No. EL14-37-000, pursuant to section 206 of the Federal Power Act (FPA), 16 U.S.C. 824e (2012), instituting an investigation into the justness and reasonableness of provisions in PJM Interconnection, L.L.C.'s (PJM) Open Access Transmission Tariff and Operating Agreement relating to Up-to Congestion transactions. PJM Interconnection, L.L.C., 148 FERC ¶ 61,144 (2014).

The refund effective date in Docket No. EL14-37-000, established pursuant to section 206(b) of the FPA, will be the date of publication of this notice in the Federal Register.

Dated: August 29, 2014.
Nathaniel J. Davis, Sr.,
Deputy Secretary.

[FR Doc. 2014-21301 Filed 9-5-14; 8:45 am]

BILLING CODE 6717-01-P